DEPARTMENT OF ENERGY

Federal Energy Regulatory Commission

[Project Nos. 2942-057, 2984-128]

Presumpscot Hydro LLC and Dichotomy Power Maine LLC; Notice of Application Accepted for Filing and Soliciting Comments, Motions To Intervene, and Protests

Take notice that the following hydroelectric application has been filed with the Commission and is available for public inspection:

a. Application Type: Non-capacity Amendment of License.

b. Project Nos: 2942-057 and 2984-128.

c. Date Filed: June 20, 2023, and supplemented October 31, 2023.¹

¹ The October 31, 2023 filing was also filed on October 30, 2023; however, the entire filing was made as Critical Energy Infrastructure Information (CEII). The October 31, 2023 filing is public except for the Exhibit F drawings which are CEII.

d. Applicant: Presumpscot Hydro LLC and Dichotomy Power Maine LLC (co-licensees).

e. Name of Project: Dundee and Eel Weir, respectively.

f. Location: The Dundee Project is located on the Presumpscot River in Cumberland County, Maine, and the Eel Weir Project is located at the outlet of Sebago Lake on the Presumpscot River in Cumberland County, Maine. The projects do not occupy federal lands.

g. Filed Pursuant to: Federal Power Act, 16 U.S.C. 791a-825r.

h. Applicant Contact: Jonathan DiCesare, 230 Park Avenue, Suite 307, New York, NY 10017, 518-657-9012, info@elevatepower.com.

i. FERC Contact: Jeremy Jessup, (202) 502-6779, Jeremy.Jessup@ferc.gov.

j. Deadline for filing comments, motions to intervene, and protests: January 8, 2024.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket numbers P-2942-057 and P-2984-128. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The co-licensees propose to upgrade the generating units at the Eel Weir Project by replacing two of the existing units (Units 1 and 2) with two new vertical double-regulated Kaplan units that would increase the authorized installed capacity from 1.80 megawatts (MW) to 1.99 MW, and decrease the total hydraulic capacity of the powerhouse from 822 to 796 cubic feet per second. Existing Unit 3 would remain in place and continue to operate. The co-licensees also propose modifications to the transmission lines at both the Dundee and the Eel Weir projects. Specifically, the co-licensees propose to remove the 3.5-mile-long, 11-kilovolt (kV) primary transmission line from Eel Weir Station to Dundee Station from the Eel Weir project boundary, and construct a new transformer at the Eel Weir Station and a new 12.5-kV primary transmission line using an existing 0.62-mile-long right-of-way along the power canal, to tie into the North Windham Substation on Route 35. At the Dundee Project, the co-licenses propose to remove the 10-mile-long, 11-kV North and South Feeder Lines from the Dundee Station to Westbrook from the project boundary, and instead transmit power from the Dundee Station to the new transformer at the Eel Weir Station using the existing 3.5-mile-long, 11-kV transmission line from Dundee to Eel Weir.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 7, 2023.
Kimberly D. Bose,
Secretary.

[FR Doc. 2023-27338 Filed 12-12-23; 8:45 am]

BILLING CODE 6717-01-P